DEPARTMENT OF TRANSPORTATION

Federal Highway Administration

Rescission of the Notice of Intent for an Environmental Impact Statement: Hartford County, Connecticut

AGENCY: Federal Highway Administration (FHWA), DOT.

ACTION: Notice.

SUMMARY: The FHWA is issuing this notice to advise the public that we are rescinding the Notice of Intent (NOI) to prepare an Environmental Impact Statement (EIS) for the I-84 Hartford Project in Hartford County, Connecticut.

FOR FURTHER INFORMATION CONTACT: Amy D. Jackson-Grove, Division Administrator, FHWA, Connecticut Division, 628 Hebron Avenue, Suite 303, Glastonbury, CT 06033; Telephone: (860) 494-659-6703.

SUPPLEMENTARY INFORMATION: The FHWA, as the lead Federal Agency, in cooperation with the Connecticut Department of Transportation (CTDOT), as the joint lead agency and local project sponsor, published an NOI in the Federal Register on September 30, 2016, at 81 FR 67421, to prepare an EIS on a proposal for transportation improvements on I-84 between Flatbush Avenue (Interchange 45) and I-91 (Interchange 53) in Hartford, Connecticut.

The purpose of the proposed project, was to address structural deficiencies, improve traffic operations and safety, and improve mobility on and along the 1-84 corridor within the project limits, while maintaining access for the City of Hartford and adjacent communities. The EIS studied a reasonable range of alternatives to address the proposed project's purpose and need. Alternatives under consideration included (1) No Build Alternative; (2) Elevated Highway Alternative (3) Lowered Highway Alternative and (4) Tunneled Highway Alternative. An internet website was established to provide information on the proposed project and can be accessed at http://www.i84hartford.com. Numerous Public Informational, Agency and Project Advisory Committee Meetings were held over the course of the project but a draft EIS was not completed or released.

The FHWA is rescinding the NOI because the local sponsor has chosen to pursue a larger scale study looking at mobility in the Hartford area and intends to utilize the Planning and Environmental Linkages (PEL) process to identify possible future projects. The new study, to be called the Greater Hartford Mobility Study, will be initiated to identify and prioritize possible projects, based on regional purpose and needs. The FHWA and CTDOT will initiate new NEPA studies, as appropriate, to assess the potential environmental impacts of future actions that involve the study area. Comments and questions concerning this action should be directed to FHWA at the address provided.

(Catalog of Federal Domestic Assistance Program Number 20.205, Highway Planning and Construction. The regulations implementing Executive Order 12372 regarding intergovernmental consultation on Federal programs and activities apply to this program.)

Amy D. Jackson-Grove,
Division Administrator, Federal Highway Administration.

[FR Doc. 2020-08273 Filed 4-17-20; 8:45 am]

BILLING CODE 4910-22-P